ENVIRONMENTAL PROTECTION AGENCY

40 CFR Part 52

[EPA-R04-OAR-2013-0163; FRL-9934-73-Region 4]

Approval and Promulgation of Implementation Plans; Mississippi: Miscellaneous Changes

AGENCY: Environmental Protection Agency (EPA).

ACTION: Final rule.

SUMMARY: The Environmental Protection Agency (EPA) is approving portions of a State Implementation Plan (SIP) revision submitted by the Mississippi Department of Environmental Quality (MDEQ), to EPA on July 25, 2010. The SIP revision includes multiple changes to Mississippi's SIP to add definitions in accordance with federal regulations and to implement clarifying language.

DATES: This rule will be effective October 26, 2015.

ADDRESSES: EPA has established a docket for this action under Docket Identification No. EPA-R04-OAR-2013-0163. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sean Lakeman, Air Regulatory Management Section, Air Planning and Implementation Branch, Air, Pesticides and Toxics Management Division, U.S. Environmental Protection Agency, Region 4, 61 Forsyth Street SW., Atlanta, Georgia 30303-8960. Mr. Lakeman can be reached by phone at (404) 562-9043 or via electronic mail at lakeman.sean@epa.gov.

SUPPLEMENTARY INFORMATION:

I. Background

On June 25, 2010, MDEQ submitted a SIP revision to EPA for approval into the Mississippi SIP.¹ This SIP revision includes multiple changes to Mississippi's air pollution control regulation APC-S-1, entitled “Air Emission Regulations for the Prevention, Abatement, and Control of Air Contaminants,” to add and amend definitions in accordance with federal regulations and to implement clarifying language. Specifically, these changes include amendments to Section 2—“Definitions” and Section 3—“Specific Criteria for Sources of Particulate Matter.”

¹ On May 5, 2015, Mississippi withdrew the portion of this SIP revision that modified APC-S-1, Section 14 related to Mississippi's Clean Air Interstate Rule provisions. A copy of the letter withdrawing this portion of Mississippi's submission is in the docket for today's rulemaking. Regarding the changes to APC-S-1, Section 8 related to hazardous air pollutants, EPA is not acting on the revisions related to the vacated Clean Air Mercury Rule in Paragraph 4. As noted in the SIP revision narrative, the change to Section 8, Paragraph 1 regarding the National Emission Standards for Hazardous Air Pollutants and the change to Section 6, Paragraph 1 regarding the New Source Performance Standards are included in the same state rulemaking package as the changes identified above but are not part of the SIP revision.

In a notice of proposed rulemaking (NPR) published on July 20, 2015, EPA proposed to approve the portions of Mississippi's June 25, 2010, SIP revision that modify Sections 2 and 3 of APC-S-1. See 80 FR 42774. The details of Mississippi's submittal and the rationale for EPA's actions are explained in the NPR. Comments on the proposed rulemaking were due on or before August 19, 2015. No adverse comments were received.

II. Incorporation by Reference

In this rule, EPA is finalizing regulatory text that includes incorporation by reference. In accordance with requirements of 1 CFR 51.5, EPA is finalizing the incorporate by reference of certain changes to Mississippi's air pollution control regulation APC-S-1, entitled “Air Emission Regulations for the Prevention, Abatement, and Control of Air Contaminants.” Specifically, these changes include the amendments to Section 2—“Definitions” and Section 3—“Specific Criteria for Sources of Particulate Matter” which were State effective on February 9, 2009. EPA has made, and will continue to make, these documents generally available electronically through www.regulations.gov and/or in hard copy at the EPA Region 4 office (see the ADDRESSES section of this preamble for more information).

III. Final Action

EPA is approving the portions of Mississippi's July 25, 2010, SIP submission revising Sections 2 and 3 of Rule APC-S-1 to add and amend definitions in accordance with federal regulations and to implement clarifying language. EPA has preliminarily determined that these changes to the Mississippi SIP are in accordance with the Clean Air Act (CAA or Act) and EPA policy and regulations.

IV. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this action merely approves state law as meeting federal requirements and does not impose additional requirements beyond those imposed by State law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 24, 2015. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Particulate matter, Reporting and recordkeeping requirements, Volatile organic compounds.

Dated: September 16, 2015.
Heather McTeer Toney,
Regional Administrator, Region 4.

40 CFR part 52 is amended as follows:

PART 52—APPROVAL AND PROMULGATION OF IMPLEMENTATION PLANS

1. The authority citation for part 52 continues to read as follows:

Authority: 42. U.S.C. 7401 et seq.

Subpart Z—Mississippi

2. Section 52.1270(c), is amended under APC-S-1 Air Emission Regulations for the Prevention, Abatement, and Control of Air Contaminants by revising the entries for “Section 2” and “Section 3” to read as follows:

§ 52.1270 Identification of plan.

* * * * *

(c) * * *

EPA-Approved Mississippi Regulations
State citation | Title/Subject | State effective date | EPA Approval date | Explanation
APC-S-1 Air Emission Regulations for the Prevention, Abatement, and Control of Air Contaminants
* * * * * * *
Section 2 | Definitions | 2/9/2009 | 9/25/2015 [Insert citation of publication] |
Section 3 | Specific Criteria for Sources of Particulate Matter | 2/9/2009 | 9/25/2015 [Insert citation of publication] |
* * * * * * *

* * * * *

[FR Doc. 2015-24324 Filed 9-24-15; 8:45 am]

BILLING CODE 6560-50-P